DEPARTMENT OF AGRICULTURE

Agricultural Marketing Service

[Docket No. FV-06-327]

United States Standards for Grades of Canned Sweet Potatoes

AGENCY: Agricultural Marketing Service, USDA.

ACTION: Notice.

SUMMARY: The Agricultural Marketing Service (AMS) of the Department of Agriculture (USDA) is revising the United States Standards for Grades of Canned Sweet Potatoes. The change was requested to reflect newer varieties, new sorting techniques, and canning processes.

DATES: Effective August 23, 2006.

FOR FURTHER INFORMATION: Chere L. Shorter, Inspection and Standardization Section, Processed Products Branch, Fruit and Vegetable Programs, Agricultural Marketing Service, U.S. Department of Agriculture, 1400 Independence Avenue, SW., Room 0709, South Building; STOP 0247, Washington, DC 20250; fax (202) 690-1527, e-mail Chere.Shorter@usda.gov. The United States Standards for Grades of Canned Sweet Potatoes are available either through the address cited above or by accessing the AMS Web site on the Internet at http://www.ams.usda.gov/fv/ppb.html.

SUPPLEMENTARY INFORMATION: Section 203(c) of the Agricultural Marketing Act of 1946, as amended, directs and authorizes the Secretary of Agriculture “to develop and improve standards of quality, condition, quantity, grade, and packaging, and recommend and demonstrate such standards in order to encourage uniformity and consistency in commercial practices.” AMS is committed to carrying out this authority in a manner that facilitates the marketing of agricultural commodities and makes copies of official standards available upon request. Those United States Standards for Grades of Fruits and Vegetables no longer appear in the Code of Federal Regulations but are maintained by USDA/AMS/Fruit and Vegetable Programs.

AMS is revising the U.S. Standards for Grades of Canned Sweet Potatoes using the procedures that appear in Part 36 of Title 7 of the Code of Federal Regulations (7 CFR Part 36).

Background

The Food Products Association (FPA) sent petitions from two FPA member food processors to AMS requesting revision of the United States Standards for Grades of Canned Sweet Potatoes. The FPA requested that the USDA revise the definition of the style of “Whole” to reflect newer varieties, new sorting techniques, and canning processes. In particular, the “Beauregard” variety, a variety now widely used in canned sweet potatoes, is oddly shaped and must be cut and trimmed to give the appearance of a whole sweet potato. This variety may or may not be tapered on one end and because of mechanical trimming may not meet the definition of whole.

The current definition for the style of “Whole” states that, “Whole means the canned sweet potatoes have the appearance of being essentially whole or almost whole in that the units retain the approximate shape of whole sweet potatoes.”

The petitioners want AMS to revise the definition for canned whole sweet potatoes to allow for those that are cylindrical in shape, two inches plus or minus 0.5 inches in length, by 1.5 inches plus or minus 0.25 inches in diameter for 404 × 307 and 603 × 700 can sizes and 1.0 inch plus or minus 0.25 inches in diameter for smaller can sizes.

Prior to undertaking research and other work associated with revising the grade standards, AMS sought public comments on the petitions. A notice requesting comments on the petitions to revise the United States Standards for Grades of Canned Sweet Potatoes was published in the March 12, 2003, Federal Register (68 FR 11802).

In response to our request for comments, AMS received one comment from one of the processors that had petitioned for the revision to the standards. This commenter reconsidered its position and did not favor the proposed revision of the standard, noting that the use of a length and diameter requirement to describe a whole sweet potato would be a severe disadvantage to canners. The commenter observed, “that environmental influences make potatoes longer or shorter in years due to natural weather conditions, soil types, and varietal differences.” “This variation in size could result,” according to the commenter, “in products not meeting the length and diameter standards for a portion of the canning season.” The commenter further suggested that the term “Almost Whole” be removed from the standards, arguing that “processors are merely trimming the fibrous ends from the sweet potato that the consumer would have to do themselves.” The commenter further suggested that the definition for “whole” should change to “practically represents a whole sweet potato.”

AMS decided to proceed with developing the proposed revision to the standards. In reviewing the standards AMS noted that the term “Whole” implies that a sweet potato has not been cut into smaller pieces and the term “Almost whole” implies that a sweet potato unit should resemble a whole unit with one or both ends trimmed to remove fibrous ends. AMS noted that larger sized sweet potatoes would require excessive trimming to meet the suggested size requirement, as stated in the petition. AMS decided that the better approach to revising the grade standards was to leave the style description for “Whole” unchanged without specific reference to length and size. AMS further decided to remove the style of “Sections,” which is not commercially packed, reducing the confusion between “Sections” and “Pieces, cuts, or cut” styles. The style “Other” was added to account for styles not specifically mentioned in the grade standard. These changes were suggested in order to more clearly delineate the difference between “whole” and “pieces, cuts, or cut” styles, thereby promoting uniformity in grading canned sweet potatoes.

In March 2004 a discussion draft that included these changes was sent to FPA and they agreed with the proposed changes to the grade standards. AMS then published the proposed changes in the May 16, 2005, Federal Register (70 FR 25804). Only one comment was received in response to this notice. The comment was in favor of the proposed change.

Accordingly, AMS believes that the revised U.S. grade standards will provide a common language for trade; a means of measuring value in the marketing of canned sweet potatoes, and provide for the effective utilization of canned sweet potatoes. A copy of the proposed grade standards was posted on the AMS website located at http://www.ams.usda.gov/fv/ppb.html and is also available at the address cited above under “For Further Information.”

The official grade of a lot of canned sweet potatoes covered by these standards will be determined by the procedures set forth in the Regulations Governing Inspection and Certification of Processed Fruits and Vegetables, Processed Products Thereof, and Certain Other Processed Food Products (7 CFR 52.1-52.83).

The revised U.S. Standards for Grades of Canned Sweet Potatoes will become effective 30 days after publication of this notice in the Federal Register.

Authority: 7 U.S.C. 1621-1627.

Dated: July 18, 2006.
Lloyd C. Day,
Administrator, Agricultural Marketing Service.

[FR Doc. E6-11734 Filed 7-21-06; 8:45 am]

BILLING CODE 3410-02-P